DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Permits for Incidental Taking of Endangered or Threatened Species.

Form Number(s): None.

OMB Approval Number: 0648-0230.

Type of Request: Regular submission.

Burden Hours: 472.

Number of Respondents: 13.

Average Hours per Response: Permit applications, 80 hours; permit reports, 8 hours; and transfer of permits, 40 hours.

Needs and Uses: The Endangered Species Act (ESA) prohibits the taking of endangered species. Section 10 of the ESA allows for certain exceptions to the prohibitions, such as a “take” that is incidental to an otherwise lawful activity. The corresponding regulations provide application and reporting requirements for such exceptions. The required information, for which renewal of approval is being requested, is used to evaluate the proposed activity (application) and ongoing activities (reports) and is necessary for NMFS to ensure the conservation of the species under the ESA.

Affected Public: Business or other for-profit organizations; State, Local or Tribal Government.

Frequency: Annually, on occasion and one-time only.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 18, 2008.
Gwellnar Banks,
Management Analyst, Office of the Chief Information Officer.

[FR Doc. E8-22231 Filed 9-23-08; 8:45 am]

BILLING CODE 3510-22-P